ENVIRONMENTAL PROTECTION AGENCY

[EPA-HQ-OW-2006-0369; FRL-11290-01-OMS]

Agency Information Collection Activities; Submission to the Office of Management and Budget for Review and Approval; Comment Request; National Estuary Program (Renewal)

AGENCY: Environmental Protection Agency (EPA).

ACTION: Notice.

SUMMARY: The Environmental Protection Agency (EPA) has submitted an information collection request (ICR), “National Estuary Program (Renewal)” (EPA ICR Number 1500.11, OMB Control Number 2040-0138) to the Office of Management and Budget (OMB) for review and approval in accordance with the Paperwork Reduction Act. This is a proposed extension of the ICR, which is currently approved through September 30, 2023. Public comments were previously requested via the Federal Register on January 4, 2023 during a 60-day comment period. This notice allows for an additional 30 days for public comments.

DATES: Comments may be submitted on or before September 15, 2023.

ADDRESSES: Submit your comments, referencing Docket ID Number EPA-HQ-OW-2006-0369, to EPA online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Vince Bacalan, Oceans, Wetlands and Communities Division; Office of Wetlands, Oceans and Watersheds; Mail Code 4504T, Environmental Protection Agency, 1200 Pennsylvania Ave. NW, Washington, DC 20460; telephone number: 202-566-0930; fax number: 202-566-1336; email address: bacalan.vince@epa.gov.

SUPPLEMENTARY INFORMATION: This is a proposed extension of the ICR, which is currently approved through September 30, 2023. An agency may not conduct or sponsor and a person is not required to respond to a collection of information unless it displays a currently valid OMB control number.

Public comments were previously requested via the Federal Register on January 4, 2023 during a 60-day comment period (88 FR 352). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The National Estuary Program (NEP) involves collecting information from the state or local entity or nongovernmental organization that receives funds under section 320 of the Clean Water Act (CWA). The regulation requiring this information is found in 40 CFR part 35.

Prospective grant recipients seek funding to develop and coordinate the implementation of Comprehensive Conservation Management Plans (CCMPs) for estuaries of national significance. To receive funds, grantees must submit annual work plans to EPA, which are used to track performance of each of the 28 estuary program locations currently in the NEP. EPA provides funding to the 28 NEPs to support long-term implementation of CCMPs in the form of assistance agreements, and each NEP is evaluated on its progress every five years. The primary purpose of the program evaluation process is to help EPA determine whether the 28 programs included in the NEP are making adequate progress implementing their CCMPs. EPA also requests that each of the 28 NEPs receiving section 320 funds report annually on performance measures that allow EPA to maintain effective program management, execute its fiduciary responsibility to the program, and summarize environmental results achieved within the overall NEP. Information gathered may be included in agency reports along with other EPA program measures.

The passage of the Infrastructure Investment and Jobs Act, also known as Bipartisan Infrastructure Law (BIL), on November 15, 2021, enhances the work of the NEPs with additional funding to accelerate and more extensively implement CCMPs, ensure that benefits reach disadvantaged communities, and build the adaptive capacity of ecosystems and communities. As part of this expanded investment, the NEP is also required to track certain investments and benefits under the Justice40 Initiative (part II section 223 of 86 FR 7619), which will be informed by equity strategies submitted on a one-time basis by each of the 28 NEPs. These additional requirements under BIL and Justice40 contribute to the significant increase in the overall burden estimates for this renewal.

Form Numbers: None.

Respondents/affected entities: Entities potentially affected by this action are those state or local entities or nongovernmental organizations in the NEP that receive assistance agreements under section 320 of the Clean Water Act.

Respondent's obligation to respond: Required to obtain or retain a benefit (section 320 of the Clean Water Act).

Estimated number of respondents: 28 (total).

Frequency of response: Annual.

Total estimated burden: 11,872 hours (per year). Burden is defined at 5 CFR 1320.03(b).

Total estimated cost: $763,844 (per year), which includes $0 annualized capital or operation & maintenance costs.

Changes in the Estimates: There is increase of 6,512 hours in the total estimated respondent burden compared with the ICR currently approved by OMB. This increase is due to (1) year-end reporting of activities and accomplishments in Work Plans; (2) Program Evaluations taking place in the next three years compared to two years in the currently approved ICR; (3) expanded reporting of existing information collection (Work Plans, Program Evaluation Packages, Performance Measures) under BIL; and (4) requirement to develop Equity Strategies designed to meet expectations under the Justice40 Initiative, as well as to waive the remaining NEP non-federal match/cost-share requirements for BIL funds in FY2024-FY2026.

Courtney Kerwin,
Director, Regulatory Support Division.

[FR Doc. 2023-17551 Filed 8-15-23; 8:45 am]

BILLING CODE 6560-50-P